DEPARTMENT OF DEFENSE

GENERAL SERVICES ADMINISTRATION

NATIONAL AERONAUTICS AND SPACE ADMINISTRATION

48 CFR Chapter 1

[Docket No. FAR 2016-0051, Sequence No. 1]

Federal Acquisition Regulation; Federal Acquisition Circular 2005-87; Introduction

AGENCIES: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-87. A companion document, the Small Entity Compliance Guide (SECG), follows this FAC. The FAC, including the SECG, is available via the Internet at http://www.regulations.gov.

DATES: For effective dates see the separate documents, which follow.

FOR FURTHER INFORMATION CONTACT: The analyst whose name appears in the table below in relation to the FAR case. Please cite FAC 2005-87 and the specific FAR case number. For information pertaining to status or publication schedules, contact the Regulatory Secretariat at 202-501-4755.

Rules Listed in FAC 2005-87
Item | Subject | FAR case | Analyst
I | Information on Corporate Contractor Performance and Integrity | 2013-020 | Davis
II | Technical Amendments

SUPPLEMENTARY INFORMATION: Summaries for each FAR rule follow. For the actual revisions and/or amendments made by these rules, refer to the specific item numbers and subjects set forth in the documents following these item summaries. FAC 2005-87 amends the FAR as follows:

Item I—Information on Corporate Contractor Performance and Integrity (FAR Case 2013-020)

This final rule amends the FAR to implement a section of the National Defense Authorization Act for Fiscal Year 2013 to include in the Federal Awardee Performance and Integrity Information System, to the extent practicable, identification of any immediate owner or subsidiary, and all predecessors of an offeror that held a Federal contract or grant within the last three years. The objective is to provide a more comprehensive understanding of the performance and integrity of the corporation before awarding a Federal contract.

This final rule will not have a significant economic impact on a substantial number of small entities.

Item II—Technical Amendments

Editorial changes are made at FAR 4.1703(a)(1), 22.1904(b)(1), 25.1102(d)(3), 36.607(b), 52.212-3(h), 52.212-3(p) and (q), and (p) and (q) of Alternate I, 52.212-5(c)(8), (e)(1)(xv), (e)(1)(ii)(N) of Alternate II, and 52.213-4(b)(1)(ix).

Dated: February 29, 2016.
William Clark,
Director, Office of Government-wide Acquisition Policy, Office of Acquisition Policy, Office of Government-wide Policy.
Federal Acquisition Circular (FAC) 2005-87 is issued under the authority of the Secretary of Defense, the Administrator of General Services, and the Administrator for the National Aeronautics and Space Administration.
Unless otherwise specified, all Federal Acquisition Regulation (FAR) and other directive material contained in FAC 2005-87 is effective March 7, 2016 except for item I which is effective April 6, 2016.
Dated: February 25, 2016.
LeAntha D. Sumpter,
Acting Director, Defense Procurement and Acquisition Policy.
Dated: February 26, 2016.
Jeffrey A. Koses,
Senior Procurement Executive/Deputy CAO, Office of Acquisition Policy, U.S. General Services Administration.
Dated: February 26, 2016.
William P. McNally,
Assistant Administrator, Office of Procurement, National Aeronautics and Space Administration.

[FR Doc. 2016-04772 Filed 3-4-16; 8:45 am]

BILLING CODE 6820-EP-P